DEPARTMENT OF ENERGY

Federal Energy Regulatory Commission

[Docket No. PR06-3-000]

Enogex Inc.; Notice of Petition for Rate Approval

December 7, 2005.

Take notice that on November 21, 2005, Enogex Inc. (Enogex), filed with the Federal Energy Regulatory Commission zonal fuel factors for the East and West Zones on its system for Fuel Year 2006 as calculated pursuant to the terms of Enogex's filed fuel tracker and pursuant to the terms of the settlement approved in Docket Nos. PR02-10-000, PR04-15-000, PR04-16-000 and PR05-3-000. Enogex states that pursuant to the settlement, it has established zonal fuel percentages, one for each of the two zones.

Any person desiring to participate in this rate proceeding must file a motion to intervene or protest with the Federal Energy Regulatory Commission, 888 First Street, NE., Washington DC 20426, in accordance with sections 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the FERRIS link. Enter the docket number excluding the last three digits in the docket number field to access the document. For assistance, call (202) 502-8222 or for TTY, (202) 502-8659. Comments, protests and interventions may be filed electronically via the Internet in lieu of paper. The Commission strongly encourages electronic filings. See, 18 CFR 385.2001(1)(iii) and the instructions on the Commission's Web site under the e-Filing link.

Comment Date: 5 p.m. eastern time on December 28, 2005.

Magalie R. Salas,
Secretary.

[FR Doc. E5-7356 Filed 12-14-05; 8:45 am]

BILLING CODE 6717-01-P